DEPARTMENT OF AGRICULTURE

Submission for OMB Review; Comment Request

June 2, 2010.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques and other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Timber Purchasers' Cost and Sales Data.

OMB Control Number: 0596-0017.

Summary of Collection: The National Forest Management Act (NFMA), 16 U.S.C. 472a, is applicable to appraisal of National Forest timber sales. The NFMA requires that the Federal government receive not less than the appraised value of timber or forest product. In regulation 36 CFR part 223.60, the objective of Forest Service (FS) timber appraisals is to determine fair market value. The Multiple-Use Sustained Yield Act of 1960, the Forest Rangeland Renewable Resources Planning Act of 1974, and the National Forest Management Act of 1976, authorizes the FS to sell forest products and National Forest System timber. FS timber and product appraisers develop advertised timber and product sale prices using residual and transaction evidence method of appraisal. Residual appraisals begin through the collection of production cost data. Transaction evidence appraisals begin with an average of past successful bids by timber purchasers for timber for which the stumpage rate has been adjusted for the timber sale and market conditions at the time. FS collects the data from timber sales and product purchases through submissions by contractors both locally and nationally. There are no forms required for the collection of costs data.

Need and Use of the Information: FS will collect information to verify the minimum rates returned a fair value to the Government and that the residual and transaction system are a reliable approach to valuing timber and products. The information is also used to assure the accuracy of the residual and transaction systems and to develop minimum stumpage rates for small sales or for areas where there is no current sale activity to use for transaction evidence. If the information is not collected, FS does not have a sound check to determine if the value being received from products really reflects the true market value.

Description of Respondents: Individuals; Business or other for-profit.

Number of Respondents: 20.

Frequency of Responses: Reporting: Annually.

Total Burden Hours: 80.

Charlene Parker,
Departmental Information Collection Clearance Officer.

[FR Doc. 2010-13623 Filed 6-7-10; 8:45 am]

BILLING CODE 3410-11-P